DEPARTMENT OF AGRICULTURE

Forest Service

Shasta County Resource Advisory Committee

AGENCY: Forest Service, USDA.

ACTION: Notice of meeting.

SUMMARY: The Shasta County Resource Advisory Committee (RAC) will hold meetings at the USDA Service Center in Redding, California, on October 5, November 2, and December 7, 2005. The purpose of these meetings is to discuss proposed projects under Title II of the Secure Rural Schools and Community Self-Determination Act of 2000.

DATES: October 5, November 2, and December 7, 2005.

Time: 8 a.m.-12 noon.

Location: USDA Service Center, 3644 Avtech Parkway, Redding, California.

FOR FURTHER INFORMATION CONTACT: Michael Odle, Public Affairs Officer and RAC Coordinator, at the Shasta-Trinity National Forest Headquarters, 3644 Avtech Parkway, Redding, CA, 96002. (530) 226-2494 or modle@fs.fed.us.

SUPPLEMENTARY INFORMATION: These meetings are open to the public. Opportunity will be provided for public input and individuals will have the opportunity to address the Committee at that time.

Dated: September 23, 2005.
J. Sharon Heywood,
Forest Supervisor.

[FR Doc. 05-19553 Filed 9-27-05; 10:32 am]

BILLING CODE 3410-11-M